NUCLEAR REGULATORY COMMISSION

[NRC-2023-0055]

Information Collection: DOE/NRC Form 740M, Concise Note; DOE/NRC Form 741, Nuclear Material Transaction Report; DOE/NRC Form 742, Material Balance Report; and DOE/NRC Form 742C, Physical Inventory Listing

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “DOE/NRC Form 740M, Concise Note; DOE/NRC Form 741, Nuclear Material Transaction Report; DOE/NRC Form 742, Material Balance Report; and DOE/NRC Form 742C, Physical Inventory Listing.”

DATES: Submit comments by January 16, 2024. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2023-0055 when contacting the NRC about the availability of information for this action. You may obtain publicly available information related to this action by any of the following methods:

• Federal Rulemaking Website: Go to https://www.regulations.gov and search for Docket ID NRC-2023-0055.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Clearance Officer, David C. Cullison, Office of the Chief Information Officer, U.S. Nuclear Regulatory Commission, Washington, DC 20555-0001; telephone: 301-415-2084; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “DOE/NRC Form 740M, Concise Note; DOE/NRC Form 741, Nuclear Material Transaction Report; DOE/NRC Form 742, Material Balance Report; and DOE/NRC Form 742C, Physical Inventory Listing.” The NRC hereby informs potential respondents that an agency may not conduct or sponsor, and that a person is not required to respond to, a collection of information unless it displays a currently valid OMB control number.

The NRC published a Federal Register notice with a 60-day comment period on this information collection on July 28, 2023, (88 FR 48922).

1. The title of the information collection: DOE/NRC Form 740M, Concise Note; DOE/NRC Form 741, Nuclear Material Transaction Report; DOE/NRC Form 742, Material Balance Report; and DOE/NRC Form 742C, Physical Inventory Listing.

2. OMB approval number: 3150-0057, 3150-0003, 3150-0004, and 3150-0058.

3. Type of submission: Extension.

4. The form number, if applicable: DOE/NRC Form 740M, DOE/NRC Form 741, DOE/NRC Form 742, DOE/NRC Form 742C.

5. How often the collection is required or requested: DOE/NRC Form 741, Nuclear Material Transaction Report, will be collected whenever nuclear material is shipped or received into the Material Balance Area; DOE/NRC Form 742, Material Balance Report, will be collected on an annual basis; DOE/NRC Form 742C, Physical Inventory Listing, will be collected on an annual basis; DOE/NRC Form 740M, Concise Note, are used when needed.

6. Who will be required or asked to respond: Persons licensed to possess specified quantities of nuclear material and entities subject to the U.S.-IAEA Caribbean Territories Safeguards Agreement (INFCIRC/366) are required to respond as follows: any licensee who ships, receives, or otherwise undergoes an inventory change of nuclear material is required to submit a DOE/NRC Form 741 to document the change. Additional information regarding these transactions shall be submitted through Form 740M, with Safeguards Information identified and handled in accordance with section 73.21 of title 10 of the Code of Federal Regulations, “Protection of Safeguards Information: Performance requirements.” Any licensee who had possessed in the previous reporting period, at any one time and location, nuclear material in a quantity totaling one gram or more shall complete DOE/NRC Form 742. In addition, each licensee, Federal or State, who is authorized to possess, at any one time of location, one kilogram of foreign obligated source material, is required to file with the NRC an annual statement of source material inventory which is foreign obligated. Any licensee, who had possessed in the previous reporting period, at any one time and location, special nuclear material in a quantity totaling one gram or more shall complete DOE/NRC Form 742C.

7. The estimated number of annual responses:

DOE/NRC Form 740M: 67.

DOE/NRC Form 741: 28,031.

DOE/NRC Form 742: 327.

DOE/NRC Form 742C: 327.

8. The estimated number of annual respondents:

DOE/NRC Form 740M: 17.

DOE/NRC Form 741: 327.

DOE/NRC Form 742: 327.

DOE/NRC Form 742C: 327.

9. The estimated number of hours needed annually to comply with the information collection requirement or request:

DOE/NRC Form 740M: 50.

DOE/NRC Form 741: 35,039.

DOE/NRC Form 742: 1,145.

DOE/NRC Form 742C: 1,308.

10. Abstract: Persons licensed to possess specified quantities of nuclear material currently report inventory and transaction of material to the Nuclear Materials Management and Safeguards System via the DOE/NRC Forms: DOE/NRC Form 740M, Concise Note; DOE/NRC Form 741, Nuclear Material Transaction Report; DOE/NRC Form 742, Material Balance Report; and DOE/NRC Form 742C, Physical Inventory Listing. These forms provide data that is required under domestic and international safeguards regulations. This collection is being renewed to allow the U.S. to continue fulfilling its responsibilities as a participant in the U.S.-IAEA Safeguards Agreements and to satisfy various bilateral agreements for nuclear cooperation with other countries, and its domestic safeguards responsibilities.

III. Availability of Documents

The supplemental documents relate to each information collections are identified in the following table and are available to interested persons in ADAMS.

Document description | ADAMS accession No.
Supporting statement and DOE/NRC Form 740M, “Concise Note” (3150-0057) | ML23271A173 and ML23139A259.
Supporting statement and DOE/NRC Form 741, “Nuclear Material Transaction Report” (3150-0003) | ML23271A174 and ML23139A261.
Supporting statement and DOE/NRC Form 742, “Material Balance Report” (3150-0004) | ML23271A175 and ML23139A262.
Supporting statement and DOE/NRC Form 742C, “Physical Inventory Listing” (3150-0058) | ML23271A176 and ML23139A263.
NUREG/BR-0006, Revision 9, Instructions for Completing Nuclear Material Transaction Reports (DOE/NRC Forms 741 and 740M) | ML20240A155.
NUREG/BR-0007, Revision 8, Instructions for the Preparation and Distribution of Material Status Reports, (DOE/NRC Forms 742 and 742C) | ML20240A181.

Dated: December 11, 2023.
For the Nuclear Regulatory Commission.
David C. Cullison,
NRC Clearance Officer, Office of the Chief Information Officer.

[FR Doc. 2023-27508 Filed 12-13-23; 8:45 am]

BILLING CODE 7590-01-P